DEPARTMENT OF LABOR

Employment and Training Administration

Announcement of Public Briefings on the H-2B Temporary Non-Agricultural Worker Labor Certification Program

AGENCY: Employment and Training Administration, Labor.

ACTION: Notice.

SUMMARY: The Employment and Training Administration (ETA) of the Department of Labor (Department) is issuing this notice to announce the Department will offer two public briefings to educate the public on filing procedures and standards of review for employer applications for labor certification under the H-2B Temporary Non-Agricultural Worker Labor Certification Program. The two briefings will take place the first week in May 2007—one in Chicago, a second in Atlanta. This notice provides the public with locations, dates, and registration information regarding these briefings.

DATES: The Department will hold a public meeting in Chicago, Illinois, on Tuesday, May 1, 2007, and one in Atlanta, Georgia, on Friday, May 4, 2007.

FOR FURTHER INFORMATION CONTACT: William L. Carlson, Administrator, Office of Foreign Labor Certification, Employment and Training Administration, 200 Constitution Avenue, NW., Room C-4312, Washington, DC 20210; Telephone: (202) 693-3010 (this is not a toll-free number).

SUPPLEMENTARY INFORMATION: In July 2005, Federal processing activities for the H-2A and H-2B temporary labor certification programs were transferred from ETA Regional Offices to ETA National Processing Centers (NPC) in Atlanta and Chicago. The briefings planned for May 2007 follow a national training session convened for State Workforce Agencies in November 2006, and are part of ETA's ongoing effort to assist program partners and program users in understanding H-2B filing procedures, application requirements, and NPC standards of review. These sessions will reinforce information previously provided as well as new guidance, and respond to questions from stakeholders on issues of general interest. The sessions will not address specialized non-agricultural occupations—including boilermakers, entertainers, logging or other forestry occupations, or professional team sports—all of which require special procedures and will be covered in guidance being issued separately by ETA. The following registration information should be used by any member of the public to attend an H-2B briefing session.

Chicago, Illinois

Date: Tuesday, May 1, 2007.

Time: 9 a.m.-1 p.m.

Location: Chicago Marriott Downtown, 540 North Michigan Avenue, Chicago, IL 60611.

Atlanta, Georgia

Date: Friday, May 4, 2007.

Time: 9 a.m.-1 p.m.

Location: Atlanta Hilton Downtown, 255 Courtland Street NE., Atlanta, GA 30303.

To Register: To register for one of the H-2B briefings listed above, please use the following information. To complete the registration process online, please visit http://www.dtiassociates.com/H2Bstakeholdersmeeting. For questions regarding the registration process, please call (703) 299-1618.

Signed in Washington, DC, this 4th day of April, 2007.
Emily Stover DeRocco,
Assistant Secretary, Employment and Training Administration.

[FR Doc. E7-6694 Filed 4-9-07; 8:45 am]

BILLING CODE 4510-FP-P